DEPARTMENT OF HEALTH AND HUMAN SERVICES

Centers for Disease Control and Prevention

[60Day-04-41]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandra Gambescia, CDC Assistant Reports Clearance Officer, 1600 Clifton Road, MS-E11, Atlanta, GA 30333. Written comments should be received within 60 days of this notice.

Proposed Project

Accommodation of Hearing-Impaired Workers—New—National Institute for Occupational Safety and Health (NIOSH), Centers for Disease Control and Prevention (CDC).

Background

CDC, National Institute for Occupational Safety and Health mission is to promote safety and health at work for all people through research and prevention. This study will evaluate the effectiveness of an evaluation and intervention protocol that can be used to accommodate the special needs of noise-exposed, hearing-impaired workers so that they can continue to perform their jobs safely while preventing additional hearing loss. Three General Motors (GM) manufacturing plants have agreed to participate in the field-testing phase of this project as part of the Memorandum of Understanding between NIOSH, the General Motors Corporation and the International Union, United Automotive, Aerospace and Agricultural Implement Workers of America (UAW) which was signed on October 23, 2000. Beginning in 2002 and continuing into 2003, the field study proposal was developed in consultation with representatives from GM and the UAW from each of the three plants. The field study is scheduled to begin during 2004 and to conclude during 2005.

One hundred noise-exposed, hearing-impaired workers will be enrolled in the study. Participants will complete the necessary release of information forms, receive a clinical hearing evaluation and case history interview by a certified audiologist to identify the type of hearing protection most appropriate for them, and be provided with this protector for use in their actual job. As part of the impact and evaluation component of this project, each study participant will fill out a 36-item pre-intervention Hearing Protection Device (HPD) Questionnaire at the time he or she enrolls in the study. The HPD Questionnaire is an expansion of a previously approved HPD questionnaire (OMB NO. 0920-0552) which was developed in 1999 by NIOSH researchers. The post-intervention HPD Questionnaire will be mailed to each participant along with the 7-item Post-Intervention Questionnaire following a one-year trial with the study HPD. NIOSH researchers will use this information to assess the success of the evaluation and HPD selection protocol, and make recommendations to hearing health professionals and hearing conservation program managers, regarding the auditory management of noise-exposed, hearing-impaired workers. This request is for 2 years. There is no cost to respondents.

Respondents | No. of respondents | No. of responses/ respondents | Avg. burden/ response (in hrs) | Total burden hours
Release of Information (GM to NIOSH) | 100 | 1 | 5/60 | 8
Release of Information (Clinic to NIOSH) | 100 | 1 | 5/60 | 8
Contact Information Card | 100 | 1 | 2/60 | 3
HPD Questionnaire (pre-intervention) | 100 | 1 | 15/60 | 25
HPD Questionnaire (post-intervention) | 100 | 1 | 15/60 | 25
Case History | 100 | 1 | 10/60 | 17
Telephone Follow-Up | 100 | 6 | 7/60 | 70
Post-Intervention Questionnaire | 100 | 1 | 10/60 | 17
Total |  |  |  | 173

Dated: April 12, 2004.
Diane Allen,
Acting Director, Management Analysis and Services Office, Centers for Disease Control and Prevention.

[FR Doc. 04-8754 Filed 4-16-04; 8:45 am]

BILLING CODE 4163-18-P